DEPARTMENT OF TRANSPORTATION

Surface Transportation Board

[Docket No. FD 35976]

Roanoke Southern, LLC—Acquisition and Operation Exemption—Norfolk Southern Railway Company

Roanoke Southern, LLC (RSRL),¹ a noncarrier, has filed a verified notice of exemption under 49 CFR 1150.31 to acquire, by donation from Norfolk Southern Railway Company (NSR), and to operate an approximately 2.42-mile portion of a rail line known as the Roanoke Belt Line between milepost R-4.5 (at a point north of Rolfe St., SW) and milepost R-6.92 (at a point east of the intersection of U.S. Business 220 and Brandon Ave., SW), all of which is located in Roanoke, Va.

¹ RSRL is directly controlled by the Virginia Museum of Transportation, Inc. (VMT), a noncarrier.

RSRL states that the line is being acquired to facilitate the commencement of the VMT-sponsored, intrastate excursion operations. RSRL notes that in the event that a demand for freight service was to emerge following consummation of the proposed transaction, RSRL acknowledges that it would assume the status and obligations of a common carrier to provide service upon a reasonable demand. According to RSRL, the parties are finalizing, and will shortly execute, an agreement providing for NSR's donation of the approximately 2.42-mile line to RRSL.

RSRL certifies that the proposed transaction would not involve a provision or agreement that would limit RSRL's ability to interchange with a third-party connecting carrier. RSRL states that it will connect and interchange with NSR in the vicinity of milepost 6.92.

RSRL also certifies that its projected annual revenues as a result of this transaction will not result in RSRL becoming a Class I or Class II rail carrier and states that its projected annual revenues will not exceed $5 million.

The transaction is expected to be consummated on or after January 17, 2016, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than January 8, 2016 (at least seven days before the exemption becomes effective).

An original and 10 copies of all pleadings, referring to Docket No. FD 35976, must be filed with the Surface Transportation Board, 395 E Street SW., Washington, DC 20423-0001. In addition, a copy of each pleading must be served on Robert A. Wimbish, Fletcher & Sippel LLC, 29 South Wacker Drive, Suite 920, Chicago, IL 60606.

Board decisions and notices are available on our Web site at WWW.STB.DOT.GOV.

Decided: December 23, 2015.
By the Board, Julia M. Farr, Acting Director, Office of Proceedings.
Raina S. Contee,
Clearance Clerk.

[FR Doc. 2015-32959 Filed 12-30-15; 8:45 am]

BILLING CODE 4915-01-P